DEPARTMENT OF AGRICULTURE

Rural Business-Cooperative Service

Notice of Solicitation of Applications for the Rural Energy for America Program for Fiscal Year 2015

AGENCY: Rural Business-Cooperative Service, USDA.

ACTION: Notice.

SUMMARY: The Rural Business-Cooperative Service (Agency) announces the acceptance of applications under the Rural Energy for America Program (REAP) which is designed to help agricultural producers and rural small businesses reduce energy costs and consumption and help meet the Nation's critical energy needs. REAP has two types of funding assistance: Renewable Energy Systems and Energy Efficiency Improvements Assistance, and Energy Audit and Renewable Energy Development Assistance Grants.

The Renewable Energy Systems and Energy Efficiency Improvement Assistance provides grants and guaranteed loans to agricultural producers and rural small businesses to purchase and install renewable energy systems and make energy efficiency improvements to their operations. Eligible renewable energy systems for REAP provide energy from: Wind, solar, renewable biomass (including anaerobic digesters), small hydro-electric, ocean, geothermal, or hydrogen derived from these renewable resources.

The Energy Audit and Renewable Energy Development Assistance Grant is available to a unit of State, Tribal, or local government; instrumentality of a State, Tribal, or local government; institution of higher education; rural electric cooperative; a public power entity; or a council, as defined in 16 U.S.C. 3451. The recipient of grant funds, (grantee), will establish a program to assist agricultural producers and rural small businesses with evaluating the energy efficiency and the potential to incorporated renewable energy technologies into their operations.

DATES: Grant applications, guaranteed loan-only applications, and combined grant and guaranteed loan applications for financial assistance under this subpart may be submitted at any time on an ongoing basis. Section IV. E., of this Notice establishes the deadline dates for the applications to be received in order to be considered for funding provided by Public Law 113-79, commonly referred to as the 2014 Farm Bill Act, for fiscal year 2014 and fiscal year 2015. In summary:

(1) Renewable energy system and energy efficiency improvement grant applications and combination grant and guaranteed loan applications. There will be two application deadline dates to facilitate the use of fiscal years 2014 and 2015 grant funds. These dates apply to both fiscal year 2014 and 2015 grant funds.

(a) For applicants requesting $20,000 or less that wish to have their application compete for the “Grants of $20,000 or less set aside,” complete applications must be received no later than 4:30 p.m. local time on April 30, 2015.

(b) For applicants requesting grant funds of either $20,000 or less, or grant funds over $20,000 (unrestricted), complete applications must be received no later than:

(i) 4:30 p.m. local time on April 30, 2015, or

(ii) 4:30 p.m. local time on June 30, 2015.

(2) Renewable energy system and energy efficiency improvement guaranteed loan-only applications. Applications will be reviewed and processed when received with monthly competitions on the first business day of each month for those applications ready to be funded, however the first monthly competition will not take place until eight guaranteed loan only applications are received and ready to be competed.

(3) Energy audits and renewable energy development assistance grant applications. Complete applications must be received no later than 4:30 p.m. local time on February 12, 2015.

Application | Application window opening dates | Application window closing dates
Renewable Energy Systems and Energy Efficiency Improvement Grants (Over $20,000 and Combinations) | July 8, 2014 | April 30, 2015.
Renewable Energy Systems and Energy Efficiency Improvement Grants ($20,000 or less not competing for set aside funds, Over $20,000 and Combinations) | May 1, 2015 | June 30, 2015.*
Renewable Energy Systems and Energy Efficiency Improvement Grants ($20,000 or less competing for set aside funds) | July 8, 2014 | April 30, 2015.
Renewable Energy Systems and Energy Efficiency Improvement Guaranteed Loans | August 1, 2014 | Continuous application cycle.
Energy Audit and Renewable Energy Development Assistance Grants | December 29, 2014 | February 12, 2015.*
* Applications received after this date will be considered for the next cycle.

ADDRESSES: This solicitation is for agricultural producers and rural small businesses, as well as units of State, Tribal, or local government; instrumentalities of a State, Tribal, or local government; institutions of higher education; rural electric cooperatives; a public power entities; and Councils, as defined in 16 U.S.C. 3451, who serve agricultural producers and rural small businesses.

FOR FURTHER INFORMATION CONTACT: The applicable USDA Rural Development Energy Coordinator for your respective State, as identified via the following link: http://www.rurdev.usda.gov/BCP_Energy_CoordinatorList.html.

For information about this Notice, please contact Mr. Kelley Oehler, Branch Chief, USDA Rural Development, Energy Division, 1400 Independence Avenue SW., Washington, DC 20250. Telephone: (202) 720-6819. Email: kelley.oehler@wdc.usda.gov.

SUPPLEMENTARY INFORMATION:

I. Program Description

The REAP is designed to help agricultural producers and rural small businesses reduce energy costs and consumption and help meet the Nation's critical energy needs. REAP has two types of funding assistance: (1) Renewable Energy Systems and Energy Efficiency Improvements Assistance, and (2) Energy Audit and Renewable Energy Development Assistance Grants.

A. General. Applications for REAP can be submitted on an ongoing basis. This Notice announces the deadline dates to submit applications for the REAP funds provided by the Agricultural Act of 2014, Pub. L. 113-79, on February 7, 2014, (2014 Farm Bill) for fiscal year 2014, and fiscal year 2015, for: grants, guaranteed loans, and combined grants and guaranteed loans to purchase and install renewable energy systems, and make energy efficiency improvements; and for grants to conduct energy audits, and renewable energy development assistance.

The Renewable Energy Systems and Energy Efficiency Improvement Assistance provides grants and guaranteed loans to agricultural producers and rural small businesses to purchase and install renewable energy systems and make energy efficiency improvements to their operations. Eligible renewable energy systems for REAP provide energy from: wind, solar, renewable biomass (including anaerobic digesters), small hydro-electric, ocean, geothermal, or hydrogen derived from these renewable resources.

The Energy Audit and Renewable Energy Development Assistance Grant is available to a unit of State, Tribal, or local government; instrumentality of a State, Tribal, or local government; institution of higher education; rural electric cooperative; a public power entity; or a council, as define in 16 U.S.C. 3451. The recipient of grant funds, (grantee), will establish a program to assist agricultural producers and rural small businesses with evaluating the energy efficiency and the potential to incorporate renewable energy technologies into their operations.

The administrative requirements applicable to each type of funding available under REAP are described in 7 CFR, part 4280, subpart B. The provisions specified in 7 CFR 4280.101 through 4280.111 apply to each funding type described in this Notice.

B. Renewable Energy System and Energy Efficiency Improvement Project Grants. In addition to the other provisions of this Notice, the requirements specified in 7 CFR 4280.112 through 4280.124 apply to renewable energy system and energy efficiency improvement project grants.

C. Renewable Energy System and Energy Efficiency Improvement Project Guaranteed Loans. In addition to the other provisions of this Notice the requirements specified in 7 CFR 4280.125 through 4280.152, apply to guaranteed loans for renewable energy system and energy efficiency improvement projects. For fiscal year 2015, the guarantee fee amount is 1 percent of the guaranteed portion of the loan and the annual renewal fee is 0.250 percent (one-quarter of 1 percent) of the guaranteed portion of the loan.

D. Renewable Energy System and Energy Efficiency Improvement Project Combined Grant and Guaranteed Loan Requests. In addition to the other provisions of this Notice, the requirements specified in 7 CFR 4280.165 apply to a combined grant and guaranteed loan for renewable energy system and energy efficiency improvement projects.

E. Energy Audit and Renewable Energy Development Assistance Grants. In addition to the other provisions of this Notice, the requirements specified in 7 CFR 4280.186 through 4280.196 apply to energy audit and renewable energy development assistance grants.

II. Federal Award Information

A. Statutory Authority. This program is authorized under 7 U.S.C. 8107.

B. Catalog of Federal Domestic Assistance (CFDA) Number. 10.868.

C. Funds Available. This Notice is announcing deadline dates for applications to be submitted for the REAP funds provided by the 2014 Farm Bill for fiscal year 2014 and fiscal year 2015. This Notice is being published prior to the Congressional enactment of a full-year appropriation for fiscal year 2015. The Agency will continue to process applications received under this announcement and should REAP receive appropriated funds, these funds will be announced on the following Web site: http://www.rurdev.usda.gov/BCP_Reap.html and subject to the same provisions in this Notice.

(1) Renewable energy system and energy efficiency improvement grant-only funds. For renewable energy system and energy efficiency improvement projects only, there will be an allocation of grant funds to each Rural Development State Office. The state allocations will include an allocation for grants of $20,000 or less funds and an allocation of grant funds that can be used to fund renewable energy system and energy efficiency improvement grants of either $20,000 or less or grants of more than $20,000, as well as the grant portion of a combination grant and guaranteed loan. The funds for grants of $20,000 or less can only be used to fund grants requesting $20,000 or less.

(a) To ensure that small projects have a fair opportunity to compete for the funding and are consistent with the priorities set forth in the statute, the Agency will set-aside 20 percent of the fiscal year 2015 funds until June 30, 2015, to fund grants of $20,000 or less.

(b) Grant funds available for renewable energy system and energy efficiency improvement in fiscal year 2015, regardless of the amount of funding requested, will consist of both fiscal years 2014 and 2015 funds.

(2) Renewable energy system and energy efficiency improvement loan guarantee funds. Rural Development's National Office will maintain a reserve of grant and guaranteed loan funds. The amount of loan guarantee program level available will consist of both fiscal years 2014 and 2015 funds.

(3) Renewable energy system and energy efficiency improvement guaranteed loan and grant combination funds. The amount of funds available for guaranteed loan and grant combination applications are outlined in paragraphs II.C(1)(b) and C(2).

(4) Energy audit and renewable energy development assistance grant funds. The amount of funds available for energy audits and renewable energy development assistance in fiscal year 2015 will be 4 percent of fiscal year 2015 mandatory funds. Obligations of these funds will take place through March 31, 2015. Any unobligated balances will be moved to the renewable energy subsidy account as of April 1, 2015. These funds may be utilized in any of the renewable energy system and energy efficiency improvement national competitions.

D. Approximate Number of Awards. The estimated number of awards is 2,000, but will depend on amount of funds made available and on the number of eligible applicants participating in this program.

E. Type of Instrument. Grant, guaranteed loan, and grant/guaranteed loan combinations.

III. Eligibility Information

A. Eligible Applicants. To be eligible for the grant portion of the program, an applicant must meet the requirements specified in 7 CFR 4280.109, 7 CFR 4280.110, and 7 CFR 4280.112, or 7 CFR 4280.186, as applicable.

B. Eligible Lenders and Borrowers. To be eligible for the guaranteed portion of the program, lenders and borrowers must meet the eligibility requirements in 7 CFR 4280.125 and 7 CFR 4280.127, as applicable.

C. Eligible Projects. To be eligible for this program, a project must meet the eligibility requirements specified in 7 CFR 4280.113, 7 CFR 4280.128, and 7 CFR 4280.187, as applicable.

D. Cost Sharing or Matching. The 2014 Farm Bill, formally Public Law 113-79, mandates the maximum percentages of funding that REAP can provide. Within the maximum funding amounts specified in this Notice:

(1) Renewable energy system and energy efficiency improvement funding approved for guaranteed loan-only requests and for combination guaranteed loan and grant requests will not exceed 75 percent of eligible project costs, with any grant portion not to exceed 25 percent of total eligible project costs, whether the grant is part of a combination request or is a grant-only.

(2) Under the energy audit and renewable energy development assistance grants, a grantee that conducts energy audits must require that, as a condition of providing the energy audit, the agricultural producer or rural small business pay at least 25 percent of the cost of the energy audit.

E. Other. The definitions applicable to this Notice are published at 7 CFR 4280.103. Ineligible project costs can be found in 7 CFR 4280.114(d), 7 CFR 4280.129(f), and 7 CFR 4280.188(c), as applicable.

IV. Application and Submission Information

A. Address to Request Application. Application materials may be obtained by contacting one of Rural Development's Energy Coordinators, as identified via the following link: http://www.rurdev.usda.gov/BCP_Energy_CoordinatorList.html.

In addition, for grant applications, applicants may obtain electronic grant applications for REAP from http://www.Grants.gov. When you enter the Grants.gov site, you will find information about submitting an application electronically through the site. To use Grants.gov, all applicants must have a DUNS number (unless the applicant is an individual), which can be obtained at no cost via a toll-free request line at 1 (866) 705-5711 or online at http://fedgov.dnb.com/webform. USDA Rural Development strongly recommends that applicants do not wait until the application deadline date to begin the application process through Grants.gov.

B. Application Submittal.

(1) Grant applications. All grant applications may be submitted either as hard copy to the appropriate Rural Development Energy Coordinator or electronically using the Government-wide Grants.gov Web site. When submitting an application as hard copy, applicants must submit one original.

(a) All renewable energy system and energy efficiency improvement applications are to be submitted to the USDA Rural Development Energy Coordinator in the State in which the applicant's proposed project is located.

(b) All energy audit and renewable energy development assistance applications are to be submitted to the USDA Rural Development Energy Coordinator in the State in which the applicant is headquartered. A list of USDA Rural Development Energy Coordinators is available via the following link: http://www.rurdev.usda.gov/BCP_Energy_CoordinatorList.html.

(c) For grant-only applicants submitting their electronic applications to the Agency via the Grants.gov Web site may download a copy of the application package to complete it off line and then upload and submit the application via the Grants.gov site, including all information typically included in the application, and all necessary assurances and certifications. After electronically submitting an application through the Web site, the applicant will receive an automated acknowledgement from Grants.gov that contains a Grants.gov tracking number.

(2) Guaranteed loan applications. Guaranteed loan-only applications (i.e., those that are not part of a guaranteed loan/grant combination request) must be submitted as hard copy.

(3) Guaranteed loan and grant combination applications. Applications for guaranteed loans/grants (combination applications) must be submitted as hard copy.

C. Content and Form of Application Submission. Applicants seeking to participate in this program must submit applications in accordance with this Notice and 7 CFR part 4280, subpart B. Applicants must submit complete applications containing all parts necessary for the Agency to determine applicant and project eligibility, to score the application, and to conduct the technical evaluation, as applicable, in order to be considered.

(1) Competition. The application dates published in Section IV.E. of this Notice, establishes the dates by which complete applications must be received, in order to compete for the funds available.

(2) Grant applications. Information required for an application to be considered complete can be found in 7 CFR part 4280, subpart B.

(a) Grant applications for renewable energy systems and energy efficiency improvement projects with total project costs of $80,000 or less must provide information required by 7 CFR 4280.119.

(b) Grant applications for renewable energy systems and energy efficiency improvement projects with total projects costs of $200,000 or less, but more than $80,000, must provide information required by 7 CFR 4280.118.

(c) Grant applications for renewable energy systems and energy efficiency improvement projects with total projects costs of greater than $200,000 must provide information required by 7 CFR 4280.117.

(d) Guaranteed loan applications for renewable energy systems and energy efficiency improvement projects must provide information required by 7 CFR 4280.137.

(e) Combined grant and guaranteed loan applications for renewable energy systems and energy efficiency improvement projects must provide information required by 7 CFR 4280.165(c).

(f) Applications for energy audits or renewable energy development assistance grants must provide information required by 7 CFR 4280.190.

(3) Race, ethnicity, and gender. The Agency is requesting that each applicant provide race, ethnicity, and gender information about the applicant. The information will allow the Agency to evaluate its outreach efforts to under-served and under-represented populations. Applicants are encouraged to furnish this information with their application, but are not required to do so. An applicant's eligibility or the likelihood of receiving an award will not be impacted by furnishing or not furnishing this information.

(4) Hybrid projects. If the application is for a hybrid project, as defined in 7 CFR 4280.103, technical reports, as required under 7 CFR 4280.110(h)(1), must be prepared for each technology that comprises the hybrid project.

(5) Multiple facilities. Applicants may submit a single application that proposes to apply the same renewable energy system (including the same hybrid project) or energy efficiency improvement across multiple facilities. For example, a rural small business owner owns five retail stores and wishes to install solar panels on each store. The rural small business owner may submit a single application for installing the solar panels on the five stores. However, if this same owner wishes to install solar panels on three of the five stores and wind turbines for the other two stores, the owner can only submit an application for either the solar panels or for the wind turbines in the same fiscal year.

(6) Fiscal year 2014 Renewable Energy System and Energy Efficiency Improvement Applications. If an application for a project was submitted for the first time for fiscal year 2014 funding and that initial application was determined eligible, but was not funded, the Agency will consider that initial fiscal year 2014 application for funding in fiscal year 2015. The applicants that qualify under this paragraph will be allowed to provide additional information to document the environmental benefits scoring criterion without creating a new complete application date. If an applicant submitted the initial application on or prior to June 14, 2013, the applicant must submit a new application meeting the requirements of this Notice in order to be considered for fiscal year 2015 funds for that project and a new submission date of record will be established.

D. System for Award Management (SAM) and Dun and Bradstreet Universal Number System (DUNS) Number. Unless exempt under 2 CFR 25.110, all applicants must:

(1) Be registered in the SAM prior to submitting an application or plan;

(2) Maintain an active SAM registration with current information at all times during which it has an active Federal award or an application or plan under consideration by the Agency; and

(3) Provide its DUNS number in each application or plan it submits to the Agency.

(4) At the time the Agency is ready to make an award, if the applicant has not complied with paragraph IV.A(1) through A(3), the Agency may determine the applicant is not eligible to receive the award.

E. Submission Dates and Times. Grant applications, guaranteed loan-only applications, and combined grant and guaranteed loan applications for financial assistance under this subpart may be submitted at any time on an ongoing basis. When an application window closes, the next application window opens on the following day. This Notice establishes the deadline dates for the applications to be received in order to be considered for funding provided by the 2014 Farm Bill for fiscal year 2014 and fiscal year 2015. An application received after these dates will be considered with other applications received in the next application window. In order to be considered for funds under this Notice, complete applications must be received by the appropriate USDA Rural Development State Office or via grants.gov. The deadline for applications to be received to be considered for funding in fiscal year 2015 are outlined in the following paragraphs and also summarized in a table at the end of paragraph IV.E:

(1) Renewable energy system and energy efficiency improvement grant applications and combination grant and guaranteed loan applications. The Agency is establishing two application deadline dates to facilitate the use of fiscal years 2014 and 2015 grant funds. Combination grant and guaranteed loan applications will compete for grant funds based on their grant score. The two dates that complete applications must be received by the Agency in order to compete for available funds are:

(a) For applicants requesting $20,000 or less that wish to have their application compete for the “Grants of $20,000 or less set aside,” complete applications must be received no later than 4:30 p.m. local time on April 30, 2015.

(b) For applicants requesting grant funds of either $20,000 or less, or grant funds over $20,000 (unrestricted), complete applications must be received no later than:

(i) 4:30 p.m. local time on April 30, 2015, or

(ii) 4:30 p.m. local time on June 30, 2015.

(2) Renewable energy system and energy efficiency improvement guaranteed loan-only applications. Applications will be reviewed and processed when received with monthly competitions on the first business day of each month for those applications ready to be funded, however the first monthly competition will not take place until eight guaranteed loan only applications are received and ready to be competed.

(3) Energy audits and renewable energy development assistance grant applications. Complete applications must be received no later than 4:30 p.m. local time on February 12, 2015.

Application | Application window opening dates | Application window closing dates
Renewable Energy Systems and Energy Efficiency Improvement Grants ($20,000 or less not competing for set aside funds, Over $20,000 and Combinations) | July 8, 2014 | April 30, 2015.
Renewable Energy Systems and Energy Efficiency Improvement Grants ($20,000 or less not competing for set aside funds, Over $20,000 and Combinations) | May 1, 2015 | June 30, 2015.*
Renewable Energy Systems and Energy Efficiency Improvement Grants ($20,000 or less competing for set aside funds) | July 8, 2014 | April 30, 2015.
Renewable Energy Systems and Energy Efficiency Improvement Guaranteed Loans | August 1, 2014 | Continuous application cycle.
Energy Audit and Renewable Energy Development Assistance Grants | December 29, 2014 | February 12, 2015.*
* Applications received after this date will be considered for the next cycle.

F. Intergovernmental Review. REAP is not subject to Executive Order 12372, Intergovernmental Review of Federal Programs.

G. Funding Limitations. The following funding limitations apply to applications submitted under this Notice.

(1) Renewable energy system and energy efficiency improvement projects.

(a) Applicants may apply for only one renewable energy system project and one energy efficiency improvement project in fiscal year 2015.

(b) For renewable energy system grants, the minimum grant is $2,500 and the maximum is $500,000. For energy efficiency improvement grants, the minimum grant is $1,500 and the maximum grant is $250,000.

(c) For renewable energy system and energy efficiency improvement loan guarantees, the minimum guaranteed loan amount is $5,000 and the maximum amount of a guaranteed loan to be provided to a borrower is $25 million.

(d) Renewable energy system and energy efficiency improvement guaranteed loan and grant combination applications. Paragraphs IV.G(1)(b) and (c) contain the applicable maximum amounts and minimum amounts for grants and guaranteed loans.

(2) Energy audit and renewable energy development assistance grants.

(a) Applicants may only submit one energy audit grant application and one renewable energy development assistance grant application for fiscal year 2015 funds.

(b) The maximum aggregate amount of energy audit and renewable energy development assistance grants awarded to any one recipient under this Notice cannot exceed $100,000 for fiscal year 2015.

(c) Public Law 113-79, commonly known as the 2014 Farm Bill, mandates that the recipient of a grant that conducts an energy audit for an agricultural producer or a rural small business must require the agricultural producer or rural small business to pay at least 25 percent of the cost of the energy audit, which shall be retained by the eligible entity for the cost of the audit.

(3) Maximum grant assistance to an entity. For the purposes of this Notice, the maximum amount of grant assistance to an entity will not exceed $750,000 for fiscal year 2015 based on the total amount of renewable energy system, energy efficiency improvement, energy audit, and renewable energy development assistance grants awarded to an entity under REAP.

H. Other Submission Requirements and Information.

(1) Environmental information. For the Agency to consider an application, the application must include all environmental review documents with supporting documentation in accordance with 7 CFR part 1940, subpart G. Applications for financial assistance for planning or management purposes are typically categorically excluded from the environmental review process by 7 CFR 1940.310(e)(1). Any required environmental review must be completed prior to obligation of funds or the approval of the application.

(2) Original signatures. USDA Rural Development may request that the applicant provide original signatures on forms submitted through Grants.gov at a later date.

(3) Transparency Act Reporting. All recipients of Federal financial assistance are required to report information about first-tier sub awards and executive compensation in accordance with 2 CFR part 170. So long as an entity applicant does not have an exception under 2 CFR 170.110(b), the applicant must have the necessary processes and systems in place to comply with the reporting requirements should the applicant receive funding. See 2 CFR 170.200(b).

V. Application Review Information

A. Evaluation Criteria. All complete applications will be scored in accordance with 7 CFR 4280.120, 4280.135, and 4280.192. Applications for projects in rural areas with the lowest incomes where, according to the American Community Survey data by census, tracts show that at least 20 percent of the population is living in poverty will qualify for administrative points applicable under 7 CFR 4280.120(g). This emphasis will support Rural Development's goal of providing 20 percent of its funding by 2016 to these areas of need.

(1) Combined grant and guaranteed loan applications will be scored in accordance with 7 CFR 4280.120.

(2) For hybrid applications, each technical report will be evaluated based on its own merit.

B. Review and Selection Process. Grant-only applications, guaranteed loan-only applications, and combined grant and guaranteed loan applications for financial assistance may be submitted at any time. In order to be considered for funds, complete applications must be received by the appropriate USDA Rural Development State Office or via grants.gov, as identified in Section IV. E., of this Notice.

(1) Renewable energy system and energy efficiency improvement grants. Due to the competitive nature of this program, applications are competed based on submittal date. The submittal date is the date the Agency receives a complete application. The complete application date is the date the Agency receives the last piece of information that allows the Agency to determine eligibility and to score, rank, and compete the application for funding.

(a) Renewable energy system and energy efficiency improvement grants of $20,000 or less State funds. Funds will be allocated to the States. Applications must be submitted by April 30, 2015 in order to be considered for these set aside funds. All State allocated unused funds for grants of $20,000 or less will be pooled to the National Office.

(b) Renewable energy system and energy efficiency improvement grants of $20,000 or less national funds. All unfunded eligible applications for grants of $20,000 or less received by April 30, 2015, will be competed against other applications for grants of $20,000 or less from other States at a final national competition. Obligations of these funds will take place prior to June 30, 2015.

(c) Renewable energy system and energy efficiency improvement grant funds that can be awarded to any renewable energy system or energy efficiency improvement application, regardless of the amount of the funding request, will be allocated to the States. The State will award 50 percent of these funds for those complete applications the Agency receives by April 30, 2015, and 50 percent of the funds for those complete applications the Agency receives by June 30, 2015. All unused funds for grant funds will be pooled to the National Office.

(d) Renewable energy system and energy efficiency improvement national grant funds. All unfunded eligible applications for grants, which include grants of $20,000 or less, received by April 30, 2015, that are not funded by State allocations can be submitted to the National Office to compete against grant applications from other States at a final national competition.

(2) Renewable energy system and energy efficiency improvement guaranteed loan funds. The National Office will maintain a reserve for renewable energy system and energy efficiency improvement guaranteed loan funds. Applications will be reviewed and processed when received. Those applications that meet the Agency's underwriting requirements, are credit worthy, and score a minimum of 50 points, will compete in national competitions for guaranteed loan funds on the first business day of each month. All unfunded eligible guaranteed loan-only applications received, that do not score at least 50 points will be competed against other guaranteed loan-only applications from other States at a final national competition, if the guaranteed loan reserves have not been completely depleted, on September 1, 2015. If funds remain after the final guaranteed loan-only national competition, the Agency may elect to utilize budget authority to fund additional grant-only.

(3) Renewable energy system and energy efficiency improvement combined grant and guaranteed loan applications will compete with grant-only applications for grant funds allocated to their State referenced in paragraph V.B(1)(c). If the application is ranked high enough to receive State allocated grant funds, the State will request guaranteed loan portion of any combined grant and guaranteed loan applications from the National Office guaranteed loan reserve, and no further competition will be required.

(4) Energy audit and renewable energy development assistance grant funds will be maintained in a reserve at the National Office. The two highest scoring applications from each State, based on the scoring criteria established under § 4280.192, will compete for funding at a national competition. If funds remain after the energy audit and renewable energy development assistance national competition, the Agency may elect to transfer budget authority. The budget authority will be utilized to fund additional renewable energy system and energy efficiency improvement grants from the National Office reserve after pooling.

(5) If a State allocation is not sufficient to fund the total amount of a grant or combination application, the applicant must be notified that they may accept the remaining funds or submit the total request for National Office reserve funds available after pooling. If the applicant agrees to lower its grant request, the applicant must certify that the purposes of the project will be met and provide the remaining total funds needed to complete the project.

If one or more grant or combination applications have the same score and remaining funds in the State allocation are insufficient to fully award all, the remaining funds must be divided proportionally between the applications. The applicant must be notified they may accept the proportional amount of funds or submit their total request for National Office reserve. If the applicant agrees to lower its grant request, the applicant must certify that the purposes of the project will be met and provide the remaining total funds needed to complete the project.

At its discretion, the Agency may also elect to allow the remaining funds to be carried over to the next fiscal year rather than selecting a lower scoring application(s) or distributing funds on a pro-rata basis.

C. Award Considerations. All awards will be on a discretionary basis. In determining the amount of a renewable energy system or energy efficiency improvement grant or loan guarantee, the Agency will consider the six criteria specified in 7 CFR 4280.114(e) or 7 CFR 4280.129(g), as applicable.

D. Anticipated Announcement and Federal Award Dates.All awards should be completed by September 30, 2015.

VI. Federal Award Administration Information

A. Federal Award Notices. The Agency will award and administer renewable energy system and energy efficiency improvement grants, guaranteed loans in accordance with 7 CFR 4280.122, and 7 CFR 4280.139, as applicable. The Agency will award and administer the energy audit and renewable energy development assistance grants in accordance with 7 CFR 4280.195. Notification requirements of 7 CFR 4280.111, apply to this Notice.

B. Administrative and National Policy Requirements.

(1) Equal Opportunity and Nondiscrimination. The Agency will ensure that equal opportunity and nondiscrimination requirements are met in accordance with the Equal Credit Opportunity Act, 15 U.S.C. 1691 et seq. and 7 CFR part 15d, Nondiscrimination in Programs and Activities Conducted by the U.S. Department of Agriculture. The Agency will not discriminate against applicants on the basis of race, color, religion, national origin, sex, marital status, or age (provided that the applicant has the capacity to contract); because all or part of the applicant's income derives from any public assistance program; or because the applicant has in good faith exercised any right under the Consumer Credit Protection Act, 15 U.S.C. 1601 et seq.

(2) Civil Rights Compliance. Recipients of grants must comply with the Americans with Disabilities Act of 1990, 42 U.S.C. 12101 et seq., Title VI of the Civil Rights Act of 1964, 42 U.S.C. 2000d et seq., and Section 504 of the Rehabilitation Act of 1973, 29 U.S.C. 794. This may include collection and maintenance of data on the race, sex, and national origin of the recipient's membership/ownership and employees. These data must be available to conduct compliance reviews in accordance with 7 CFR 1901.204.

(3) Environmental Analysis. 7 CFR part 1940, subpart G or successor regulation outlines environmental procedures and requirements for this subpart. Prospective applicants are advised to contact the Agency to determine environmental requirements as soon as practicable after they decide to pursue any form of financial assistance directly or indirectly available through the Agency.

(4) Appeals. A person may seek a review of an Agency decision or appeal to the National Appeals Division in accordance with 7 CFR 4280.105.

C. Reporting.Reporting requirements will be in accordance with the Grant Agreement, 7 CFR 4280.123(j), 7 CFR 4280.143, 7 CFR 4280.196, as applicable.

VII. Other Information

A. Paperwork Reduction Act

In accordance with the Paperwork Reduction Act of 1995, the information collection requirements associated with renewable energy system and energy efficiency improvement grants and guaranteed loans, as covered in this Notice, has been approved by the Office of Management and Budget (OMB) under OMB Control Number 0570-0050. The information collection requirements associated with energy audit and renewable energy development assistance grants have also been approved by OMB under OMB Control Number 0570-0059.

B. Nondiscrimination Statement

The U.S. Department of Agriculture (USDA) prohibits discrimination in all its programs and activities on the basis of race, color, national origin, age, disability, and where applicable, sex, marital status, familial status, parental status, religion, sexual orientation, genetic information, political beliefs, reprisal, or because of all or part of an individual's income is derived from any public assistance program. (Not all prohibited bases apply to all programs.) Persons with disabilities who require alternative means for communication of program information (Braille, large print, audiotape, etc.) should contact USDA's TARGET Center at (202) 720-2600 (voice and TDD).

If you wish to file a Civil Rights program complaint of discrimination, complete the USDA Program Discrimination Complaint Form, found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov. Individuals who are deaf, hard of hearing, or have speech disabilities and you wish to file a program complaint please contact USDA through the Federal Relay Service at (800) 877-8339 or (800) 845-6136 (in Spanish). USDA is an equal opportunity provider and employer.” The full “Non-Discrimination Statement” is found at: http://www.usda.gov/wps/portal/usda/usdahome?navtype=FT&navid=Non_Discrimination.

Dated: December 18, 2014.
Lillian E. Salerno,
Administrator, Rural Business-Cooperative Service.

[FR Doc. 2014-30184 Filed 12-24-14; 8:45 am]

BILLING CODE 3410-XY-P